DEPARTMENT OF THE INTERIOR

Fish and Wildlife Service

50 CFR Part 17

[FWS-R3-ES-2008-0030; 1111 FY07 MO-B2]

Endangered and Threatened Wildlife and Plants; 90-Day Finding on a Petition To List the U.S. Population of Coaster Brook Trout (Salvelinus fontinalis) as Endangered

AGENCY: Fish and Wildlife Service, Interior.

ACTION: Correction and reopening of comment period for 90-day petition finding.

SUMMARY: We, the U.S. Fish and Wildlife Service (Service), correct and reopen the comment period for the March 20, 2008, 90-day finding on a petition to list the U.S. population of coaster brook trout.

DATES: We will consider information received or postmarked on or before September 8, 2008.

ADDRESSES: You may submit information by one of the following methods:

• Federal eRulemaking Portal: http://www.regulations.gov. Follow the instructions for submitting comments.

• U.S. mail or hand-delivery: Public Comments Processing, Attn: [FWS-R3-ES-2008-0030]; Division of Policy and Directives Management; U.S. Fish and Wildlife Service; 4401 N. Fairfax Drive, Suite 222; Arlington, VA 22203.

We will not accept e-mail or faxes. We will post all information received at http://www.regulations.gov. This generally means that we will post any personal information you provide us (see the Information Solicited section below for more details).

FOR FURTHER INFORMATION CONTACT: Ms. Jessica Hogrefe, East Lansing Field Office, U.S. Fish and Wildlife Service, 2651 Coolidge Road—Suite 101, East Lansing, MI 48823-6316; telephone 517-351-5467; facsimile 517-351-1443. If you use a telecommunications device for the deaf (TDD), call the Federal Information Relay Service (FIRS) at (800) 877-8339.

SUPPLEMENTARY INFORMATION: On March 20, 2008, the Service published in the Federal Register a notice of 90-day petition finding and initiation of status review concerning the petition to list as endangered a population of brook trout (Salvelinus fontinalis) known as coaster brook trout throughout its known historical range in the conterminous United States (73 FR 14950). In the DATES section of that document, we solicited requests for public hearings and established a date by which we would receive such requests.

This part of the notice was printed in error and we will not hold public hearings for this 90-day finding. Section 4(b)(5) of the Endangered Species Act of 1973, as amended (16 U.S.C. 1531 et seq.), states, “With respect to any regulation proposed by the Secretary to implement a determination, designation, or revision referred to in subsection (a)(1) or (3) [proposed or final rule to list a species as endangered or threatened, or proposed or final rule to designate any habitat of such species to be critical habitat], the Secretary shall * * * promptly hold one public hearing on the proposed regulation if any person files a request for such a hearing within 45 days after the date of publication of general notice.” Notices of 90-day findings on petitions to list species are not proposed regulations. The Service does not generally hold public hearings for nonrulemaking findings, and will not hold any public hearings regarding the coaster brook trout 90-day finding. For a 90-day finding, we request information from the public that improves our understanding of the status of the species. This information typically includes agency reports and other collections of empirical data that is best gathered in the form of written comments. If, in the future, we publish a proposed rule for this species (e.g., a proposed listing), we will allow the public an opportunity to request a public hearing at that time.

Information Solicited

We are, however, providing a new comment period with respect to the 90-day finding to afford the public an additional opportunity to provide us information for our status review or submit any remarks that would otherwise have been presented at a public hearing. We have also contacted directly the persons who requested a hearing to advise them of this additional opportunity to submit information.

Please note that submissions merely stating support for or opposition to the action under consideration without providing supporting information, although noted, will not be considered in making a determination, because section 4(b)(1)(A) of the Act (16 U.S.C. 1531 et seq.) directs that determinations as to whether any species is a threatened or endangered species shall be made “solely on the basis of the best scientific and commercial data available.” At the conclusion of the status review, we will determine whether listing is warranted, not warranted, or warranted but precluded.

You may submit your information concerning this status review by one of the methods listed in the ADDRESSES section. We will not consider submissions sent by e-mail or fax or to an address not listed in the ADDRESSES section.

If you submit information via http://www.regulations.gov, your entire submission—including any personal identifying information—will be posted on the Web site. If your submission is made via a hardcopy that includes personal identifying information, you may request at the top of your document that we withhold this personal identifying information from public review. However, we cannot guarantee that we will be able to do so. We will post all hardcopy submissions on http://www.regulations.gov.

Information and materials we receive will be available for public inspection on http://www.regulations.gov, or by appointment, during normal business hours, at the U.S. Fish and Wildlife Service, East Lansing Field Office (see FOR FURTHER INFORMATION CONTACT).

Authority: This action is authorized by the Endangered Species Act of 1973, as amended (16 U.S.C. 1531 et seq.).

Dated: July 31, 2008.
H. Dale Hall,
Director, Fish and Wildlife Service.

[FR Doc. E8-18206 Filed 8-6-08; 8:45 am]

BILLING CODE 4310-55-P